DEPARTMENT OF HEALTH AND HUMAN SERVICES

Administration for Children and Families

Submission for OMB Review; Contact After Adoption or Guardianship: Child Welfare Agency and Family Interactions (New Collection)

AGENCY: Office of Planning, Research, and Evaluation; Administration for Children and Families; HHS.

ACTION: Request for public comment.

SUMMARY: The Administration for Children and Families (ACF) at the U.S. Department of Health and Human Services (HHS) seeks approval for a one-time study to examine child welfare agency family contact activities. The primary objective of this study is to describe how public child welfare agencies are in contact with or receive information about the well-being of children and youth who have exited the foster care system through adoption or guardianship, particularly the experiences of these children with instability. A secondary objective is to understand what types of information child welfare agencies systematically track about these children.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The proposed study would conduct web surveys with state child welfare agency adoption program managers. The study will also include stakeholder videoconference interviews with selected child welfare agency representatives. The web surveys and stakeholder interviews are designed to collect information about the types of routine contact between agencies and families after adoption or guardianship as well as agency procedures to track child instability experiences after adoption or guardianship.

Respondents: Child welfare agency staff.

Annual Burden Estimates
Instrument | Total/annual number of respondents | Number of responses per respondent | Average burden hours per response | Annual burden hours
Agency Web Survey on Adoption | 50 | 1 | .33 | 17
Agency Web Survey on Guardianship | 45 | 1 | .25 | 11
Stakeholder Interview Discussion Guide—Adoption | 30 | 1 | 1.5 | 45
Stakeholder Interview Discussion Guide—Guardianship | 12 | 1 | 1.5 | 18

Estimated Total Annual Burden Hours: 91.

Authority: Child Abuse Prevention and Treatment and Adoption Reform Act of 1978

Mary B. Jones,
ACF/OPRE Certifying Officer.

[FR Doc. 2020-28786 Filed 12-28-20; 8:45 am]

BILLING CODE 4184-25-C